DEPARTMENT OF TRANSPORTATION

Federal Aviation Administration

14 CFR Part 39

[Docket No. FAA-2005-22148; Directorate Identifier 2005-NM-033-AD; Amendment 39-14437; AD 2005-26-16]

RIN 2120-AA64

Airworthiness Directives; Airbus Model A300 B2 and A300 B4 Series Airplanes; A300 B4-600, B4-600R, and F4-600R Series Airplanes, and C4-605R Variant F Airplanes (Collectively Called A300-600 Series Airplanes); and Airbus Model A310-200 and A310-300 Series Airplanes

AGENCY: Federal Aviation Administration (FAA), Department of Transportation (DOT).

ACTION: Final rule.

SUMMARY: The FAA is superseding an existing airworthiness directive (AD) that applies to certain Airbus Model A300-600 and A310 series airplanes. That AD currently requires repetitive visual inspections to detect corrosion on the lower rim area of the fuselage rear pressure bulkhead; and follow-on actions, if necessary. This new AD requires new repetitive inspections for corrosion on the rear pressure bulkhead between stringer (STGR) 27 (right hand) and STGR27 (left hand), and related investigative and corrective actions if necessary. This AD also requires sending a report of certain information to the manufacturer. The AD also adds airplanes to the applicability of the existing AD. This AD results from findings of severe corrosion on airplanes previously inspected in accordance with the existing AD. We are issuing this AD to detect and correct corrosion at the lower rim area of the fuselage rear pressure bulkhead, which could result in reduced structural integrity of the bulkhead, and consequent decompression of the cabin.

DATES: This AD becomes effective February 3, 2006.

The Director of the Federal Register approved the incorporation by reference of certain publications listed in the AD as of February 3, 2006.

ADDRESSES: You may examine the AD docket on the Internet at http://dms.dot.gov or in person at the Docket Management Facility, U.S. Department of Transportation, 400 Seventh Street SW., Nassif Building, room PL-401, Washington, DC.

Contact Airbus, 1 Rond Point Maurice Bellonte, 31707 Blagnac Cedex, France, for service information related to Airbus Model A310 series airplanes identified in this AD. Contact Jacques Leborgne, Airbus Customer Service Directorate, 1 Rond Point Maurice Bellonte, 31707 Blagnac Cedex, France; fax (+33) 5 61 93 36 14, for service information related to Airbus Model A300 identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 98-19-22, amendment 39-10763 (63 FR 49656, September 17, 1998). The existing AD applies to certain Airbus Model A300-600 and A310 series airplanes. That NPRM was published in the Federal Register on August 22, 2005 (70 FR 48911). That NPRM proposed to require repetitive inspections for corrosion on the rear pressure bulkhead between stringer (STGR) 27 (right hand) and STGR27 (left hand), and related investigative/corrective actions if necessary; and sending a report of certain information to the manufacturer.

Comments

We provided the public the opportunity to participate in the development of this AD. We have considered the comments that have been received on the NPRM.

Request To Reference Latest Issue of Service Bulletin

The commenter states that Airbus has revised Service Bulletin A300-53-6136, dated October 27, 2004, which was referenced as the appropriate source of service information for accomplishing the proposed actions for certain Airbus airplanes. The commenter points out that this service bulletin is now at Revision 01, dated July 18, 2005. The commenter states that Revision 01 of Service Bulletin A300-53-6136 corrects the flow chart in Figure 1 of the service bulletin by changing the sequence of certain inspections, removes information in a flag note, and removes the replacement of titanium fasteners in certain circumstances. The commenter recommends that we reference Airbus Service Bulletin A300-53-6136, Revision 01, and that we also give credit for actions done before the effective date of this AD in accordance with the original issue of this service bulletin.

We agree with the commenter. We have revised Table 1 of the AD to refer to Airbus Service Bulletin A300-53-6136, Revision 01, dated July 18, 2005. In addition, the other service bulletins referenced in the NPRM have also been revised. (Airbus Service Bulletins A300-53-0363 and A310-53-2114, both dated October 27, 2004, were referenced as the appropriate source of service information for accomplishing the proposed actions for certain other Airbus airplanes.) The additional new revisions are Airbus Service Bulletin A300-53-0363, Revision 01, dated June 10, 2005; and Airbus Service Bulletin A310-53-2114, Revision 01, dated September 1, 2005. The revised service bulletins change the compliance of the service bulletin from “recommended” to “mandatory,” and amend the effectivity. None of the revisions increase the economic burden on any operator or increase the scope of the AD. We have also added a new paragraph (j) to the AD to give credit to operators that have accomplished the actions in accordance with the original issue of the service bulletins.

Request To Give Credit for Actions Accomplished Previously

The commenter requests that we ensure that operators of airplanes on which the proposed inspections were done before the effective date of the AD be given credit for inspections accomplished before that date. The commenter states that, as defined in paragraph (g) of the NPRM, operators that had previously accomplished the inspections would be forced to re-accomplish the inspections within 18 months after the effective date of the AD. The commenter requests that the AD allow credit for any inspection done in accordance with Airbus Service Bulletin A300-53-6136, either the original issue or Revision 01, prior to the effective date of the AD, and that the repetitive interval be measured from the initial inspection, or 18 months after the effective date of the AD, whichever is later.

We partially agree with the commenter. We agree that operators should be given credit for actions accomplished previously in accordance with approved service bulletins. We do not agree that it is necessary to change the AD to give credit. Paragraph (e) of the AD states, “You are responsible for having the actions required by this AD performed within the compliance times specified, unless the actions have already been done.” It is possible that on some airplanes the actions were done before the effective date of this AD. On these airplanes, these actions are not required to be repeated, as allowed by the phrase, “unless the actions have already been done,” provided the inspections were performed at the same level of complexity and using equipment comparable to that specified for the detailed and special detailed inspections, as applicable, defined in Note 1 and Note 2 of this AD. If the initial inspection has already been done, then the repetitive intervals are measured from the date of completion of the initial inspection. However, any action that has not been accomplished on these airplanes must be done at the time specified in the AD. We have not changed the AD in this regard. Operators may apply for an approval of an alternative method of compliance (AMOC) in accordance with the provisions in paragraph (k) of this AD.

Request To Remove Redundant Reporting Paragraph

The commenter states that the requirement to report corrosion in paragraph (i) of the NPRM is redundant to the current mandatory reporting requirements in Section 121.703 (“Mechanical reliability reports”) of the Federal Aviation Regulations (14 CFR 121.703); and the future requirements in Section 121.704 (“Service difficulty reports (structural)”) of the Federal Aviation Regulations (14 CFR 121.704). The commenter points out that paragraph (g) of the NPRM already says, “Do any applicable investigative and corrective actions before further flight in accordance with the applicable service bulletin.” The commenter states that this statement mandates that the service bulletin be followed verbatim, which includes the reporting requirement. The commenter further states that paragraph (h) of the NPRM ensures that the FAA will be aware of findings because that paragraph specifies that if the service bulletin recommends contacting Airbus for repair instructions, the repair must instead be approved by the FAA. Considering all these methods of reporting information, the commenter states that Airbus, the FAA, and the Direction Générale de l'Aviation Civile (DGAC), which is the airworthiness authority for France, will have adequate data to determine the extent of corrosion problems in the affected fleet without the report in paragraph (i) of the NPRM. Therefore, the commenter requests that the reporting requirement in paragraph (i) be removed from the AD.

We disagree with the commenter. Paragraph (i) of the NPRM specifies sending the results of the inspection findings to Airbus, whereas the cited Federal Aviation Regulations specify to send such reports to the FAA. As stated in the NPRM, the intent of the reports is to enable Airbus to obtain better insight into the nature, cause, and extent of the corrosion, and to develop a final action to address the unsafe condition; at which time we may consider further rulemaking.

In addition, although paragraph (g) of the NPRM specifies to do all “related investigative and corrective actions” in accordance with the service bulletin, the report is neither an investigative nor a corrective action. However, if the report were interpreted to be either an investigative or a corrective action, and was therefore required in accordance with paragraph (g), then the report also would be required to be done before further flight, which would ground an airplane until the report was submitted. The report in paragraph (i) of the NPRM does not have to be submitted until 30 days after the inspection.

Finally, we do not require reports in ADs unless we find that the information is necessary for us, the affected airworthiness authority, or the manufacturer to assess the unsafe condition. The Paperwork Reduction Act requires agencies to consider the extent of the paperwork burden that will accompany any new rule. This Act is intended to reduce these burdens by requiring agencies not only to analyze the information collection and reporting costs they are imposing on the private sector, but to use those analyses to minimize the cost. Therefore, it is our practice to specify when the reports are required, and also to identify when a service bulletin contains a report that is not a requirement of the AD.

We have not changed the AD in this regard.

Clarification of AMOC Paragraph

We have revised this action to clarify the appropriate procedure for notifying the principal inspector before using any approved AMOC on any airplane to which the AMOC applies.

Conclusion

We have carefully reviewed the available data, including the comments that have been received, and determined that air safety and the public interest require adopting the AD with the changes described previously. We have determined that these changes will neither increase the economic burden on any operator nor increase the scope of the AD.

Clarification of Service Bulletin Dates

Revision 01 of Airbus Service Bulletins A300-53-6136, A300-53-0363, and A310-53-2114, refer to the original issues of those service bulletins as being dated November 1, 2004. However, the date printed on the original issue of those service bulletins is October 27, 2004. We have changed the referenced dates for these service bulletins to October 27, 2004.

Interim Action

This AD is considered to be interim action. The reports that are required by this AD will enable the manufacturer to obtain better insight into the nature, cause, and extent of the corrosion, and eventually to develop final action to address the unsafe condition. Once final action has been identified, we may consider further rulemaking.

Costs of Compliance

This AD affects about 190 airplanes of U.S. registry. The new actions take about 10 work hours per airplane, at an average labor rate of $65 per work hour. Based on these figures, the estimated cost of the new actions specified in this AD for U.S. operators is $123,500, or $650 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10763 (63 FR 49656, September 17, 1998) and by adding the following new airworthiness directive (AD):

2005-26-16 Airbus: Amendment 39-14437. Docket No. FAA-2005-22148; Directorate Identifier 2005-NM-033-AD.

Effective Date

(a) This AD becomes effective February 3, 2006.

Affected ADs

(b) This AD supersedes AD 98-19-22.

Applicability

(c) This AD applies to all airplanes identified in Table 1 of this AD, certificated in any category.

Table 1.—Airbus Airplanes Affected by This AD
Airbus model | As identified in Airbus Service Bulletin—
A300 B2-1A, B2-1C, B2K-3C, B2-203, B4-2C, B4-103, and B4-203 airplanes | A300-53-0363, Revision 01, dated June 10, 2005.
A300 B4-601, B4-603, B4-620, B4-622, B4-605R, B4-622R, F4-605R, F4-622R, and C4-605R Variant F airplanes | A300-53-6136, Revision 01, dated July 18, 2005.
A310-203, -204, -221, -222, -304, -322, -324, and -325 airplanes | A310-53-2114, Revision 01, dated September 1, 2005.

Unsafe Condition

(d) This AD results from findings of severe corrosion on airplanes previously inspected in accordance with the existing AD. We are issuing this AD to detect and correct corrosion at the lower rim area of the fuselage rear pressure bulkhead, which could result in reduced structural integrity of the bulkhead, and consequent decompression of the cabin.

Compliance

(e) You are responsible for having the actions required by this AD performed within the compliance times specified, unless the actions have already been done.

Service Bulletin Reference

(f) For the purposes of this AD, the term “service bulletin” means the accomplishment instructions of the applicable service bulletin identified in Table 1 of this AD.

Inspections and Corrective Actions

(g) Within 60 months since the date of issuance of the original standard airworthiness certificate or the date of issuance of the original export certificate of airworthiness; or within 18 months after the effective date of this AD; whichever is later: Do the detailed inspection, special detailed inspections, and any applicable eddy current and x-ray inspection, for corrosion on the rear pressure bulkhead between stringer (STGR) 27 (right hand) and STGR27 (left hand) in accordance with the service bulletin, and repeat these inspections thereafter at intervals not to exceed 36 months. Do any applicable related investigative and corrective actions before further flight in accordance with the service bulletin, except as provided by paragraph (h) of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 2: For the purposes of this AD, a special detailed inspection is: “An intensive examination of a specific item, installation, or assembly to detect damage, failure, or irregularity. The examination is likely to make extensive use of specialized inspection techniques and/or equipment. Intricate cleaning and substantial access or disassembly procedure may be required.”

(h) If any corrosion damage or crack is found during any inspection or corrective action required by this AD, and the service bulletin recommends contacting Airbus for repair instructions: Before further flight, repair in accordance with a method approved by the Manager, International Branch, ANM-116, Transport Airplane Directorate, FAA.

Reporting

(i) Submit a report of corrosion found during the inspections required by paragraph (g) of this AD to SE-A21, Airbus Customer Service Directorate, 1 Rond Point Maurice Bellonte, 31707 Blagnac Cedex, France, at the applicable time specified in paragraph (i)(1) or (i)(2) of this AD. The report must include the inspection type, a description of any corrosion found, the airplane serial number, and the number of landings and flight hours on the airplane. Under the provisions of the Paperwork Reduction Act of 1980 (44 U.S.C. 3501 et seq.), the Office of Management and Budget (OMB) has approved the information collection requirements contained in this AD and has assigned OMB Control Number 2120-0056.

(1) If the inspection was done after the effective date of this AD: Submit the report within 30 days after the inspection.

(2) If the inspection was accomplished prior to the effective date of this AD: Submit the report within 30 days after the effective date of this AD.

Actions Accomplished According to Previous Revisions of Service Bulletins

(j) Actions done before the effective date of this AD in accordance with Airbus Service Bulletins A300-53-0363, dated October 27, 2004; A300-53-6136, dated October 27, 2004; or A310-53-2114, dated October 27, 2004; as applicable; are acceptable for compliance with the requirements of paragraph (g) of this AD.

Alternative Methods of Compliance (AMOCs)

(k)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously according to AD 98-19-22 are not approved as AMOCs for this AD.

Related Information

(l) French airworthiness F-2004-193, dated December 22, 2004, also addresses the subject of this AD.

Material Incorporated by Reference

(m) You must use the service bulletins in Table 2 of this AD to perform the actions that are required by this AD, unless the AD specifies otherwise.

Table 2.—Material Incorporated by Reference
Airbus service bulletin | Revision level | Date
A300-53-0363 | 01 | June 10, 2005.
A300-53-6136 | 01 | July 18, 2005.
A310-53-2114 | 01 | September 1, 2005.

The Director of the Federal Register approved the incorporation by reference of these documents in accordance with 5 U.S.C. 552(a) and 1 CFR part 51. Contact Airbus, 1 Rond Point Maurice Bellonte, 31707 Blagnac Cedex, France, for service information related to Airbus Model A310 series airplanes identified in this AD. Contact Jacques Leborgne, Airbus Customer Service Directorate, 1 Rond Point Maurice Bellonte, 31707 Blagnac Cedex, France; fax (+33) 5 61 93 36 14, for service information related to Airbus Model A300 identified in this AD. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 19, 2005.
Ali Bahrami,
Manager, Transport Airplane Directorate, Aircraft Certification Service.

[FR Doc. 05-24527 Filed 12-29-05; 8:45 am]

BILLING CODE 4910-13-P